DEPARTMENT OF THE INTERIOR

Bureau of Land Management

[PO #4820000251]

Record of Decision and Approved Resource Management Plan Amendment for the Lakeview Resource Management Plan, Lakeview District, Oregon

AGENCY: Bureau of Land Management, Interior.

ACTION: Notice of availability.

SUMMARY: The Bureau of Land Management (BLM) announces the availability of the Record of Decision (ROD) for the Approved Resource Management Plan (RMP) Amendment for the Lakeview RMP, located in the BLM's Lakeview District.

DATES: The ROD/Approved RMP Amendment was signed and is in effect as of the date of signature.

ADDRESSES: The ROD/Approved RMP Amendment is available online at the BLM National Environmental Policy Act Register at https://eplanning.blm.gov/eplanning-ui/project/114300/510.

Printed copies of the ROD/Approved RMP Amendment are available for public inspection at the BLM Lakeview District Office, 1301 South G Street, Lakeview, Oregon 97630, or can be provided upon request by contacting the Lakeview office at (541) 947-2177.

A copy of the Protest Resolution Report is available at: https://www.blm.gov/programs/planning-and-nepa/public-participation/protest-resolution-reports.

FOR FURTHER INFORMATION CONTACT: Todd Forbes, District Manager, Lakeview District Office; telephone: (541) 947-6100; email: tforbes@blm.gov. Individuals in the United States who are deaf, deafblind, hard of hearing, or have a speech disability may dial 711 (TTY, TDD, or TeleBraille) to access telecommunications relay services for contacting Mr. Forbes. Individuals outside the United States should use the relay services offered within their country to make international calls to the point-of-contact in the United States.

SUPPLEMENTARY INFORMATION: The Approved RMP Amendment amends the existing 2003 Lakeview RMP. The Lakeview planning area covers approximately 3.2 million acres of public lands in Lake and Harney counties. The Approved RMP Amendment provides management direction for lands with wilderness characteristics; makes planning-area-wide travel and transportation/off-highway vehicle (OHV) allocations of open, limited, and closed; and provides management direction for livestock grazing in areas that fail to meet the BLM's Standards for Rangeland Health and for processing voluntary livestock grazing permit relinquishments.

The Approved RMP Amendment prioritizes the protection of wilderness characteristics in 24 whole units and portions of two units (42,547 acres) as new Section 202 Wilderness Study Areas (WSA). New Section 202 WSAs will be managed as: Visual Resource Management Class I, which allows for very low levels of change to the landscapes' visual character that does not attract attention; Land Tenure Zone 1, where the BLM retains the lands in public ownership for the life of the RMP; exclusion areas for all rights-of-way; and closed for the development and extraction of leasable and saleable minerals, including new mineral material sites.

In addition, the Approved RMP Amendment prioritizes the protection of wilderness characteristics in eight whole units and portions of seven units (373,132 acres) over other multiple uses (Category C). These Category C units will be managed as: Visual Resource Management Class II public lands, which only allows for low levels of change to the landscapes visual character; Land Tenure Zone 1, where the BLM retains the lands in public ownership for the life of the RMP; exclusion areas for major rights-of-way and commercial renewable energy projects; and avoidance areas for all minor rights-of-ways. In addition, within these Category C units, leasable mineral extraction will be allowed, but subject to a no surface occupancy stipulation. All Category C units will be closed to saleable minerals, including new mineral material sites. Where roads form the boundary of a protected Category C wilderness characteristic unit, a 300-foot management setback from the centerline of paved and gravel roads and a 100-foot setback from the centerline of natural surface boundary roads is established.

Under the Approved RMP Amendment, 12 areas totaling approximately 70,573 acres scattered across the planning area will be managed as open to OHV use; 397,671 acres currently classified as open will be designated as limited to existing routes, resulting in a total of 3,121,499 acres of limited OHV classification in the planning area; and an additional 476 acres of areas open to OHV use will be designated as closed resulting in a total of 11,285 acres closed to OHV.

The Approved RMP Amendment: (1) requires the BLM to consider taking action in areas that are not meeting Standards for Rangeland Health even if existing livestock grazing is not a causal factor for non-attainment of the standard; (2) clarifies that the BLM will not permit increases to animal unit months if analysis finds that doing so could cause negative impacts to other resources in an area where there is either no rangeland health assessment and evaluation or if the evaluation no longer represents the existing resource conditions; and (3) requires the BLM to review the suitability and compatibility of livestock grazing use with other existing resources in the permitted area when a voluntary permit relinquishment is received. If livestock grazing is found to be unsuitable and/or incompatible, the area will become unavailable to grazing and the forage allocation will be made to another resource. If grazing is found to be suitable and/or compatible, then the allocation of forage to livestock grazing use will remain in place. The BLM could authorize grazing use for the area under a grazing permit or designate the area as a reserve common allotment.

The BLM provided the Proposed RMP Amendment/Final Environmental Impact Statement (EIS) for a 30-day public protest period starting on November 7, 2024, and received 15protests. The BLM Assistant Director for Resources and Planning resolved all valid protests. Responses to protest issues were compiled and documented in a Protest Resolution Report (see ADDRESSES). No changes to the Lakeview Proposed RMP Amendment/Final EIS were necessary as a result of protests.

The BLM provided the Proposed RMP Amendment/Final EIS to the Governor of Oregon for a 30-day Governor's consistency review. No inconsistencies with State or local plans, policies or programs were identified during the Governor's consistency review of the Proposed RMP/Final EIS. No changes to the Lakeview Proposed RMP Amendment/Final EIS were necessary as a result of the Governor's consistency review.

(Authority: 40 CFR 1501.9, 43 CFR 1610.2, 43 CFR 1610.5)

Nada Wolff Culver,
Deputy Director.

[FR Doc. 2025-01063 Filed 1-16-25; 8:45 am]

BILLING CODE 4331-24-P